DEPARTMENT OF JUSTICE

Office of Justice Programs

Agency Information Collection Activities: Proposed Collection; Comments Requested

ACTION: 30-Day Notice of Information Collection Under Review: National Judicial Reporting Program (NJRP).

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 69, Number 243, page 76012 on December 20, 2004, allowing for a 60 day comment period.

The purpose of this notice is to allow for an additional 30 days for public comment until April 27, 2005. This process is conducted in accordance with 5 CFR 1320.10.

Written comments and/or suggestions regarding the items contained in this notice, especially the estimated public burden and associated response time, should be directed to the Office of Management and Budget, Office of Information and Regulatory Affairs, Attention Department of Justice Desk Officer, Washington, D.C. 20503. Additionally, comments may be submitted to OMB via facsimile to (202) 395-5806. Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: National Judicial Reporting Programs (NJRP).

(3) Agency form number, if any, and the applicable component of the Department sponsoring the collection: Form Number: NJRP-1. Bureau of Justice Statistics, Office of Justice Programs, Department of Justice.

(4) Affected public who will be asked or required to respond, as well as a brief abstract: Primary: State Court Authorities. The National Judicial Reporting Program (NJRP) is the only collection effort that provides an ability to maintain important statistics on felons convicted and sentenced in state courts. The NJRP enables the Bureau of Justice Statistics, Federal, State, and local correctional administrators, as well as, legislators, researchers, and planners to track changes in the numbers and types of offenses and sentences felons convicted in state courts receive. The NJRP also tracks changes in the demographics, conviction type, number of charges, sentence length, and time between arrest, conviction and sentencing of felons convicted in state courts.

(5) An estimate of the total number of respondents and the amount of time estimated for an average respondent to respond/reply: This survey will collect data for approximately 450,772 felons, from 300 responding jurisdictions, at two-year intervals. The annual burden on the respondents is based on the number of hours involved in either providing an automated data file or printout from an existing data base, or manually transferring the information from court records to the NJRP-1 form. The public reporting burden for this collection of information is estimated to average 8.013 hours per respondent.

(6) An estimate of the total public burden (in hours) associated with the collection: The burden hours have been estimated based on the following calculations: 300 Respondents × 8.013 Hours = 2,404. Therefore, the total estimated burden hours associated with this collection are 2,404.

If additional information is required contact: Brenda E. Dyer, Department Clearance Officer, United States Department of Justice, Justice Management Division, Policy and Planning Staff, Patrick Henry Building, Suite 1600, 601 D Street NW., Washington, DC 20530.

Dated: March 22, 2005.
Brenda E. Dyer,
Department Clearance Officer, Department of Justice.

[FR Doc. 05-6019 Filed 3-25-05; 8:45 am]

BILLING CODE 4410-18-P